SECURITIES AND EXCHANGE COMMISSION

[File No. 500-1]

eHydrogen Solutions, Inc., and ChromoCure, Inc.; Order of Suspension of Trading

September 5, 2012.

It appears to the Securities and Exchange Commission that there is a lack of current and accurate information concerning the securities of eHydrogen Solutions, Inc. (EHYD) because of questions concerning the adequacy of publicly available information about the company.

It appears to the Securities and Exchange Commission that there is a lack of current and accurate information concerning the securities of ChromoCure, Inc. (KKUR) because of questions concerning the adequacy of publicly available information about the company.

The Commission is of the opinion that the public interest and the protection of investors require a suspension of trading in the securities of the above-listed companies.

Therefore, it is ordered, pursuant to Section 12(k) of the Securities Exchange Act of 1934, that trading in the securities of the above-listed companies is suspended for the period from 9:30 a.m. e.d.t., on September 5, 2012 through 11:59 p.m. e.d.t., on September 18, 2012.

By the Commission.
Jill M. Peterson,
Assistant Secretary.

[FR Doc. 2012-22168 Filed 9-5-12; 4:15 pm]

BILLING CODE 8011-01-P